DEPARTMENT OF DEFENSE

Office of the Secretary

[Docket ID DoD-2022-OS-0062]

Proposed Collection; Comment Request

AGENCY: Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 1, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Title; Associated Form; and OMB Number: Independent Analysis and Recommendations on Domestic Abuse in the Armed Forces: Expert Panel(s); OMB Control Number 0704-IADA.

Needs and Uses: DoD has commissioned the RAND Corporation (RAND) to conduct a Congressionally mandated study (Section 549C of the Fiscal Year 2021 National Defense Authorization Act) to provide independent analyses and recommendations for improving domestic abuse prevention and response in the U.S. armed forces. This project is required by statute and will support: (a) High Congressional interest, (b) the current administration's priority to address gender-based violence, and (c) implementation of recommendations contained in the draft Government Accountability Office Report 21-289, released March 19, 2021.

Data collection is necessary to find sustainable solutions to decrease incidents and prevent domestic abuse before it occurs. The subtopics for the additional expert panels will include:

A. Age-appropriate training and education programs for elementary and secondary school students, designed to assist such students in learning positive relationship behaviors in families and with intimate partners.

B. Means of improving access to resources for survivors who have already experienced domestic abuse, including survivors who are geographically relocating.

C. Strategies to prevent domestic abuse by training, educating, and assigning prevention-related responsibilities to military leaders; medical, behavioral, and mental health service providers; staff from domestic abuse and related prevention programs; and others with relevant responsibilities, such as law enforcement.

Respondents will be responding to the information collection to apply their expertise and help improve domestic abuse prevention and response in the military.

Affected Public: Individuals or households.

Annual Burden Hours: 472.5.

Number of Respondents: 135.

Responses per Respondent: 1.

Annual Responses: 135.

Average Burden per Response: 3.5 hours.

Frequency: On occasion.

Dated: May 24, 2022.
Aaron T. Siegel,
Alternate OSD Federal Register Liaison Officer, Department of Defense.

[FR Doc. 2022-11518 Filed 5-27-22; 8:45 am]

BILLING CODE 5001-06-P